DEPARTMENT OF LABOR

Employment and Training Administration

[TA-W-40,077]

Prime Tanning Company Rochester, NH; Notice of Termination of Investigation

Pursuant to section 221 of the Trade Act of 1974, an investigation was initiated on September 24, 2001, in response to a worker petition filed on behalf of workers at Prime Tanning Company, Rochester, New Hampshire.

The petitioning group of workers is subject to an ongoing investigation (TA-W-40,051). Consequently, further investigation in this case would serve no purpose, and the investigation has been terminated.

Signed in Washington, DC this 5th day of November 2001.
Linda G. Poole,
Certifying Officer, Division of, Trade Adjustment Assistance.

[FR Doc. 01-28986 Filed 11-19-01; 8:45 am]

BILLING CODE 4510-30-M